DEPARTMENT OF VETERANS AFFAIRS

[OMB Control No. 2900-0654]

Agency Information Collection Activity Under OMB Review: Annual Certification of Veteran Status and Veteran-Relatives

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0654.”

FOR FURTHER INFORMATION CONTACT: Maribel Aponte, Office of Enterprise and Integration, Data Governance Analytics (008), 1717 H Street NW, Washington, DC 20006, (202) 266-4688 or email maribel.aponte@va.gov. Please refer to “OMB Control No. 2900-0654” in any correspondence.

SUPPLEMENTARY INFORMATION:

Authority: 5 U.S.C. 552a (e) (10)

Title: Annual Certification of Veteran Status and Veteran-Relatives (VA Form 20-0344).

OMB Control Number: 2900-0654.

Type of Review: Reinstatement of a previously approved collection.

Abstract: VA Form 20-0344 is necessary to ensure that benefit records of employees and employees' relatives are properly maintained in accordance with VA policy. Without the information provided on this form, VA would be unable to determine which benefit records require special handling to guard against fraud, conflict of interest, improper influence etc. by VA and non-VA employees.

This is a request to reinstate only with no substantive changes. The respondent burden did not change.

An agency may not conduct or sponsor, and a person is not required to respond to a collection of information unless it displays a currently valid OMB control number. The Federal Register Notice with a 60-day comment period soliciting comments on this collection of information was published at 86 FR 45 on March 10, 2021, pages 13790 and 13791.

Affected Public: Individuals or Households.

Estimated Annual Burden: 5,834.

Estimated Average Burden per Respondent: 25 minutes.

Frequency of Response: One time.

Estimated Number of Respondents: 14,000.

By direction of the Secretary.
Maribel Aponte,
VA PRA Clearance Officer, Office of Enterprise and Integration, Data Governance Analytics, Department of Veterans Affairs.

[FR Doc. 2021-10115 Filed 5-12-21; 8:45 am]

BILLING CODE 8320-01-P